DEPARTMENT OF ENERGY

Federal Energy Regulatory Commission

[Docket No. RP00-506-000]

Northwest Pipeline Corporation; Notice of Proposed Changes in FERC Gas Tariff

August 31, 2000.

Take notice that on August 25, 2000, Northwest Pipeline Corporation (Northwest) tendered for filing as part of its FERC Gas Tariff, Third Revised Volume No. 1, the following tariff sheets, to be effective as indicated:

To Be Effective March 27, 2000

Fourteenth Revised Sheet No. 5-A

First Revised Sheet No. 5-B

Tenth Revised Sheet No. 7

Ninth Revised Sheet No. 8.1

Fourth Revised Sheet No. 266

Fourth Revised Sheet No. 267

To Be Effective September 25, 2000

Fifth Revised Sheet No. 23

Eighth Revised Sheet No. 24

Fifth Revised Sheet No. 259

First Revised Sheet No. 259-A

Fifth Revised Sheet No. 268

First Revised Sheet No. 278-B

First Revised Sheet No. 278-C

Northwest states that the purpose of this filing is: (1) To conform Northwest's tariff to the Commission's revised regulations pursuant to Order Nos. 637, 637-A and 637-B as those Orders apply to (i) the temporary removal of the rate ceiling for short-term capacity release transactions and (ii) modifications to the regulatory right of first refusal; and; (2) to add language setting forth Northwest's policy pertaining to partial capacity turnbacks resulting from a shipper's election to exercise a right of first refusal for a portion of its capacity, to permanently release a portion of its capacity, or to extend the contract term for a portion of its capacity.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-22933 Filed 9-6-00; 8:45 am]

BILLING CODE 6717-01-M